DEPARTMENT OF STATE

[Public Notice: 5044]

60-Day Notice of Proposed Information Collection: DS-157, Supplemental Nonimmigrant Visa Application, OMB Control Number 1405-0134

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Supplemental Nonimmigrant Visa Application.

• OMB Control Number: 1405-0134.

• Type of Request: Extension of a Currently Approved Collection.

• Originating Office: CA/VO.

• Form Number: DS-157.

• Respondents: Nonimmigrant Visa Applicants.

• Estimated Number of Respondents: 2,500,000 Per Year.

• Estimated Number of Responses: 2,500,000 Per Year.

• Average Hours Per Response: 1 Hour.

• Total Estimated Burden: 2,500,000 Hours Per Year.

• Frequency: Once Per Respondent.

• Obligation to Respond: Required to Obtain or Retain a Benefit.

DATES: The Department will accept comments from the public up to 60 days from April 11, 2005.

ADDRESSES: Comments and questions should be directed to Charles Robertson at the Department of State, Visa Office, who may be reached on 202-663-3969. You may submit comments by any of the following methods:

• E-mail: robertsonCE3@state.gov. You must include the DS form number (if applicable), information collection title, and OMB control number in the subject line of your message.

• Mail (paper, disk, or CD-ROM submissions): Department of State, Visa Office, 2401 E Street NW., Washington, DC 20522-0106.

• Fax: 202-663-3897.

FOR FURTHER INFORMATION CONTACT: Direct requests for additional information regarding the collection listed in this notice, including requests for copies of the proposed information collection and supporting documents, to Charles Robertson of the Office of Visa Services, U.S. Department of State, 2401 E St. NW., L-603, Washington, DC 20522, who may be reached at 202-663-3969 or robertsonCE3@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The form collects information from aliens applying for nonimmigrant visas to enter the United States.

Methodology: Form DS-157 will be submitted to U.S. embassies and consulates overseas.

Dated: April 1, 2005.
Janice Jacobs,
Deputy Assistant Secretary of State for Visa Services, Bureau of Consular Affairs, Department of State.

[FR Doc. 05-7260 Filed 4-8-05; 8:45 am]

BILLING CODE 4710-06-P